DEPARTMENT OF AGRICULTURE

Forest Service

Shasta County Resource Advisory Committee (RAC)

AGENCY: USDA, Forest Service.

ACTION: Notice of meeting.

SUMMARY: The Shasta County Resource Advisory Committee (RAC) will meet on July 30, 2003, in Anderson, CA. The purpose of the meeting will be to review project proposals, receive reports from working committees, and discuss the future of RAC appointments.

DATES: The meeting will be held on July 30, 2003, from 8 a.m. to noon.

ADDRESSES: The meeting will be held at Sierra Pacific Industries, 19794 Riverside Avenue, Anderson, CA—off Oxyoke Road between Interstate-5 and Highway 273.

FOR FURTHER INFORMATION CONTACT: Rebeca Franco, coordinator, USDA Forest Service, (530) 242-2322. E-mail: rfranco@fs.fed.us.

SUPPLEMENTARY INFORMATION: The meeting is open to the public. Discussion is limited to Forest Service staff and committee members. However, time will be provided for public input, giving individuals the opportunity to address the committee.

Dated: July 14, 2003.
J. Sharon Heywood,
Forest Supervisor.

[FR Doc. 03-18416 Filed 7-18-03; 8:45 am]

BILLING CODE 3410-11-M